DEPARTMENT OF AGRICULTURE

Foreign Agricultural Service

Trade Adjustment Assistance for Farmers

AGENCY: Foreign Agricultural Service, USDA.

ACTION: Notice.

The Administrator, Foreign Agricultural Service (FAS), today accepted a petition filed by the Wild Blueberry Commission of Maine, Orono, Maine for trade adjustment assistance. The group represents producers of wild blueberries in the state of Maine. The Administrator will determine within 40 days whether or not imports of wild blueberries contributed importantly to a decline in domestic producer prices of 20 percent or more during the marketing period beginning July 2002 and ending June 2003. If the determination is positive, all producers represented by the group will be eligible to apply to the Farm Service Agency for adjustment assistance cash benefits and for technical assistance at no cost.

FOR FURTHER INFORMATION CONTACT: Jean-Louis Pajot, Coordinator, Trade Adjustment Assistance for Farmers, FAS, USDA, (202) 720-2916, e-mail: trade.adjustment@fas.usda.gov.

Signed at Washington, DC, September 10, 2003.
Lyle Sebranek,
Acting Administrator, Foreign Agricultural Service and Acting Vice President, Commodity Credit Corporation.

[FR Doc. 03-23563 Filed 9-12-03; 8:45 am]

BILLING CODE 3410-10-P